SMALL BUSINESS ADMINISTRATION

Notice Seeking Exemption Under Section 312 of the Small Business Investment Act, Conflicts of Interest

Notice is hereby given that Gemini Investors IV, L.P. (“Applicant”), 20 William Street, Wellesley, MA 02481, an SBIC Applicant under the Small Business Investment Act of 1958, as amended (“the Act”), in connection with the financing of a small concern, has sought an exemption under section 312 of the Act and § 107.730, Financings which Constitute Conflicts of Interest, of the Small Business Administration (“SBA”) rules and regulations (13 CFR 107.730 (2004)). Gemini Investors IV, L.P. proposes to provide financing in the form of subordinated debt with warrant to purchase 5% of common stock of UMD Technology, Inc. (“UMD”), 1499 SE Tech Center Place, Suite 140, Vancouver, WA 98683. The financing is contemplated for growth, modernization, working capital and business expansion of UMD.

This investment requires an exemption from the prohibitions in 13 CFR 107.730, Conflicts of Interest, because an affiliated SBIC, Gemini Investors III, L.P. (“Gemini III”), has a controlling equity interest (66% pre-closing, 62.7% post closing) in UMD. Therefore, UMD Technology, Inc. is considered an Associate of the Applicant as defined in § 107.50 of the Regulations.

Notice is hereby given that any interested person may submit written comments on the transaction to the Associate Administrator for Investment, U.S. Small Business Administration, 409 Third Street, SW., Washington, DC 20416.

Jaime Guzmàn-Fournier,
Associate Administrator for Investment.

[FR Doc. E6-2430 Filed 2-21-06; 8:45 am]

BILLING CODE 8025-01-P